DEPARTMENT OF AGRICULTURE

Commodity Credit Corporation

Notice of Finding of No Significant Impact on the Final Programmatic Environmental Assessment for 2008 Farm Bill Provisions Regarding the Conservation Reserve Program

AGENCY: Commodity Credit Corporation, USDA.

ACTION: Notice; Finding of No Significant Impact.

SUMMARY: This notice announces that the Commodity Credit Corporation (CCC) has completed a Final Programmatic Environmental Assessment (PEA) and is issuing a Finding of No Significant Impact (FONSI) with respect to the implementation of changes to the Conservation Reserve Program (CRP) and changes to the Farmable Wetlands Program (FWP) authorized by the Food, Conservation, and Energy Act of 2008 (2008 Farm Bill). FWP operates as part of CRP.

DATES: We will consider comments that we receive by January 15, 2009.

ADDRESSES: We invite you to submit comments on this Final PEA. In your comments, include the volume, date, and page number of this issue of the Federal Register. You may submit comments by any of the following methods:

• Federal eRulemaking Portal: Go to http://www.regulations.gov. Follow the online instructions for submitting comments.

• E-Mail: 2008crpfarmbill@geo-marine.com.

• Fax: (202) 720-4619.

• Mail: 2008 Farm Bill PEA Comments, c/o Geo-marine Incorporated, 2713 Magruder Boulevard, Suite D, Hampton, Virginia 23666.

• Hand Delivery or Courier: Deliver comments to the above address.

Comments may be inspected in the Office of the Director, CEPD, FSA, USDA, 1400 Independence Ave., SW., Room 4709 South Building, Washington, DC, between 8 a.m. and 4:30 p.m., Monday through Friday, except holidays. A copy of the FONSI and Final PEA is available through the FSA home page at http://www.fsa.usda.gov/FSA/webapp?area=home&subject=ecrc&topic=nep-cd.

FOR FURTHER INFORMATION CONTACT: Matthew Ponish, National Environmental Compliance Manager, USDA, FSA, CEPD, Stop 0513, 1400 Independence Ave., SW., Washington, DC 20250-0513, (202) 720-6853, or e-mail: Matthew.Ponish@wdc.usda.gov. Persons with disabilities who require alternative means for communication (Braille, large print, audio tape, etc.) should contact the USDA Target Center at (202) 720-2600 (voice and TDD).

SUPPLEMENTARY INFORMATION: The Final PEA assesses the potential environmental impacts associated with implementing the mandatory changes to CRP (Proposed Action) required by sections 1604, 2106, and 2109 of the 2008 Farm Bill (Pub. L. 110-246) related to income limitations, FWP (a component of CRP), and cost-sharing provisions, respectively. FWP changes include the enrollment eligibility expansion to three new categories of land under FWP:

(1) Land on which a constructed wetland designed to provide nitrogen removal and other wetland functions is to be developed to receive flow from a row crop agricultural drainage system;

(2) Land that was devoted to commercial pond-raised aquaculture in any year during 2002 through 2007; and

(3) Land that, after January 1, 1990, and before December 31, 2002, was cropped during at least three of 10 years and was subject to the natural overflow of a prairie wetland.

In addition, the 2008 Farm Bill authorizes enrollment into CRP buffer land adjacent to a wetland that would enhance wildlife benefits, to the extent practicable in terms of upland to wetland ratios, as determined by the Secretary. The 2008 Farm Bill also changed provisions for income limitations and cost-sharing that apply to CRP as a whole. The new adjusted gross income limitation of $1 million applies to CRP; however, consistent with section 1001D of the 1985 Farm Bill, as amended by section 1604 of the 2008 Farm Bill, CCC may waive the average adjusted income limitation on a case-by-case basis to protect environmentally sensitive land of special significance.

The new cost sharing provisions relate to thinning of trees, windbreaks, shelterbelts, and wildlife corridors to improve resources on the land.

The final PEA analyzes the potential environmental impacts to CRP associated with implementing select provisions of the 2008 Farm Bill. FSA analyzed the No Action Alternative (continuation of CRP as currently implemented) as an environmental baseline.

The final PEA also provides a means for the public to voice any suggestions they may have about the program and any ideas for rulemaking. The final PEA can be reviewed online at: http://www.fsa.usda.gov/FSA/webapp?area=home&subject=ecrc&topic=nep-cd.

The PEA was completed as required by NEPA, the Council on Environmental Quality (CEQ) Regulations for Implementing the Procedural Provisions of NEPA (40 CFR parts 1500-1508), and FSA's policy and procedures (7 CFR part 799). Additional analysis under the National Environmental Policy Act (NEPA, 42 U.S.C. 4321-4347) of potential impacts associated with certain implementation alternatives not included in the PEA may be conducted, as appropriate.

Determination

In consideration of the analysis documented in the Final PEA and the reasons outlined in the FONSI, the preferred alternative (Proposed Action) would not constitute a major State or Federal action that would significantly affect the human environment. In accordance with the NEPA, 40 CFR part 1502.4, “Major Federal Actions Requiring the Preparation of Environmental Impact Statements,” and 7 CFR Part 799, “Environmental Quality and Related Environmental Concerns—Compliance with the National Environmental Policy Act,” and implementing the regulations of the Council on Environmental Quality (40 CFR parts 1500-1508), I find that neither the proposed action nor any of the alternatives analyzed constitute a major Federal action significantly affecting the quality of the human environment. Therefore, no environmental impact statement will be prepared.

Signed in Washington, DC, on December 10, 2008.
Teresa C. Lasseter,
Executive Vice President, Commodity Credit Corporation.

[FR Doc. E8-29654 Filed 12-15-08; 8:45 am]

BILLING CODE 3410-05-P